NUCLEAR REGULATORY COMMISSION

[NRC-2021-0050]

Online Portal for Requesting Evaluation of Proposed Alternatives

AGENCY: Nuclear Regulatory Commission.

ACTION: Notice of availability of online portal for licensees to submit certain proposed alternatives.

SUMMARY: The U.S. Nuclear Regulatory Commission (NRC) is notifying the public of the upcoming availability of an online portal for licensees to submit a request for relief in the form of alternatives to the regulatory requirements.

DATES: The online portal described in this document will be available in Spring 2021.

ADDRESSES: Please refer to Docket ID NRC-2021-0050 when contacting the NRC about the availability of information regarding this document. You may obtain publicly available information related to this document using any of the following methods:

• Federal Rulemaking Website: Go to https://www.regulations.gov and search for Docket ID NRC-2021-0050. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

• NRC's Public Website: Licensees will be able to access the online portal through the NRC's public website at https://www.nrc.gov.

FOR FURTHER INFORMATION CONTACT: James Danna, Office of Nuclear Reactor Regulation, U.S. Nuclear Regulatory Commission, Washington, DC 20555-0001, telephone: 301-415-7422, email: James.Danna@nrc.gov.

SUPPLEMENTARY INFORMATION: The NRC is committed to following the NRC's Principles of Good Regulation (independence, openness, efficiency, clarity, and reliability) while performing our mission. In keeping with these principles, the NRC is providing additional flexibility by creating an online portal that licensees may use to submit a request for relief in the form of alternatives under section 50.55a(z) of title 10 of the Code of Federal Regulations (10 CFR), “Alternatives to codes and standards requirements.”

Use of the portal by licensees is optional. Whether a licensee chooses to use a traditional method to submit a request or opts to use the portal, the licensee must adhere to the requirements of 10 CFR 50.4, “Written communications,” and submit all information necessary for the NRC to conduct a technical evaluation of the request. The licensee's submittal will be captured as an official agency record in ADAMS. The public and stakeholders will have access through ADAMS to the licensee's request and the supporting information provided by the licensee.

Dated: February 19, 2021.
For the Nuclear Regulatory Commission.
James G. Danna,
Chief, Plant Licensing Branch I, Division of Operating Reactor Licensing, Office of Nuclear Reactor Regulation.

[FR Doc. 2021-03815 Filed 2-23-21; 8:45 am]

BILLING CODE 7590-01-P